DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 27, 2014. Address written comments to Statutory Import Programs Staff, Room 3720, U.S. Department of Commerce, Washington, DC 20230. Applications may be examined between 8:30 a.m. and 5:00 p.m. at the U.S. Department of Commerce in Room 3720.

Docket Number: 14-006. Applicant: Columbia University, 500 West 120 St., Suite 200, New York, NY 10027. Instrument: Electron Microscope. Manufacturer: FEI Company, the Netherlands. Intended Use: The instrument will be used to obtain bright-field and dark-field images of materials microstructures, to do high resolution lattice imaging, to obtain diffraction patterns to identify crystalline phases, to determine what elements are in a particular phase using the energy dispersive spectrometer, and to obtain atomic number contrast, or Z-contrast, images using the high angle annular dark field detector. Justification for Duty-Free Entry: There are no instruments of the same general category manufactured in the United States. Application accepted by Commissioner of Customs: April 15, 2014.

Docket Number: 14-007. Applicant: University of California, Davis, One Shields Ave., Davis, CA 95616. Instrument: Electron Microscope. Manufacturer: FEI Company, Czech Republic. Intended Use: The instrument will be used to execute damage free and contamination free preparation of high quality samples such as metals, ceramics, metal/ceramic interfaces, and polymers for subsequent in situ transmission electron microscopy investigations. Justification for Duty-Free Entry: There are no instruments of the same general category manufactured in the United States. Application accepted by Commissioner of Customs: April 14, 2014.

Docket Number: 14-008. Applicant: California Institute of Technology, 1200 E. California Blvd., MC 213-15, Pasadena, CA 91125. Instrument: Electron Microscope. Manufacturer: FEI Company, Czech Republic. Intended Use: The instrument will be used to conduct nano-mechanical experiments like tension, compression, and bending, lithiation-delithiation experiments on battery electrodes, and nano-tensile deformation of metallic glass nano pillars. Justification for Duty-Free Entry: There are no instruments of the same general category manufactured in the United States. Application accepted by Commissioner of Customs: April 3, 2014.

Docket Number: 14-010. Applicant: Dana Farber Cancer Institute, 450 Brookline Ave., Boston, MA 02215. Instrument: Electron Microscope. Manufacturer: FEI Company, the Netherlands. Intended Use: The instrument will be used to study the three-dimensional structure of biomolecules such as proteins, nucleic acids, carbohydrates and/or lipids to assist our understanding of how they perform and their function. Justification for Duty-Free Entry: There are no instruments of the same general category manufactured in the United States. Application accepted by Commissioner of Customs: April 15, 2014.

Dated: April 29, 2014.
Gregory W. Campbell,
Director of Subsidies Enforcement, Enforcement and Compliance.

[FR Doc. 2014-10355 Filed 5-5-14; 8:45 am]

BILLING CODE 3510-DS-P